DEPARTMENT OF ENERGY

Federal Energy Regulatory Commission

Combined Notice of Filings #1

June 5, 2019.

Take notice that the Commission received the following electric corporate filings:

Docket Numbers: EC19-100-000.

Applicants: Tucson Electric Power Company.

Description: Application for Authorization Under Section 203 of the Federal Power Act, et al. of Tucson Electric Power Company.

Filed Date: 6/5/19.

Accession Number: 20190605-5107.

Comments Due: 5 p.m. ET 6/26/19.

Take notice that the Commission received the following electric rate filings:

Docket Numbers: ER19-1405-001.

Applicants: Precept Power LLC.

Description: Supplement to May 6, 2019 Precept Power LLC tariff filing.

Filed Date: 6/5/19.

Accession Number: 20190605-5105.

Comments Due: 5 p.m. ET 6/17/19.

Docket Numbers: ER19-2047-000.

Applicants: Alabama Power Company.

Description: § 205(d) Rate Filing: Georgia SNF Development 1 Amended and Restated LGIA Filing to be effective 5/16/2019.

Filed Date: 6/4/19.

Accession Number: 20190604-5112.

Comments Due: 5 p.m. ET 6/25/19.

Docket Numbers: ER19-2048-000.

Applicants: PJM Interconnection, L.L.C.

Description: § 205(d) Rate Filing: Original WMPA SA No. 5318; Queue AD2-164 to be effective 5/6/2019.

Filed Date: 6/5/19.

Accession Number: 20190605-5047.

Comments Due: 5 p.m. ET 6/26/19.

Docket Numbers: ER19-2049-000.

Applicants: Appalachian Power Company.

Description: Tariff Cancellation: 20111027 VPI Revised PSA to be effective 4/30/2019.

Filed Date: 6/5/19.

Accession Number: 20190605-5094.

Comments Due: 5 p.m. ET 6/26/19.

Docket Numbers: ER19-2050-000.

Applicants: Midcontinent Independent System Operator, Inc., GridLiance Heartland LLC.

Description: § 205(d) Rate Filing: 2019-06-05_GridLiance Heartland Revisions to Incorporate Formula Rate to be effective 9/1/2019.

Filed Date: 6/5/19.

Accession Number: 20190605-5097.

Comments Due: 5 p.m. ET 6/26/19.

Docket Numbers: ER19-2051-000.

Applicants: Midcontinent Independent System Operator, Inc.

Description: § 205(d) Rate Filing: 2019-06-05_SA 3306 Storm Lake I GIA to be effective 5/21/2019.

Filed Date: 6/5/19.

Accession Number: 20190605-5100.

Comments Due: 5 p.m. ET 6/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Kimberly D. Bose,
Secretary.

[FR Doc. 2019-12246 Filed 6-10-19; 8:45 am]

BILLING CODE 6717-01-P